PENSION BENEFIT GUARANTY CORPORATION

Required Interest Rate Assumption for Determining Variable-Rate Premium for Single-Employer Plans; Interest Assumptions for Multiemployer Plan Valuations Following Mass Withdrawal

AGENCY: Pension Benefit Guaranty Corporation.

ACTION: Notice of interest rates and assumptions; correction.

SUMMARY: The Pension Benefit Guaranty Corporation published in the Federal Register of June 15, 2006, a notice informing the public of the interest rates and assumptions to be used under certain Pension Benefit Guaranty Corporation regulations. This document corrects an inadvertent error in that notice.

FOR FURTHER INFORMATION CONTACT: Catherine B. Klion, Attorney, Legislative and Regulatory Department, Pension Benefit Guaranty Corporation, 1200 K Street, NW., Washington, DC 20005, 202-326-4024. (TTY/TDD users may call the Federal relay service toll-free at 1-800-877-8339 and ask to be connected to 202-326-4024.)

SUPPLEMENTARY INFORMATION: The Pension Benefit Guaranty Corporation published a document in the June 15, 2006, Federal Register (71 FR 34645), informing the public of the interest rates and assumptions to be used under certain Pension Benefit Guaranty Corporation regulations. This document corrects an inadvertent error in that notice.

In FR Doc. E6-9346, published on June 15, 2006 (70 FR 34645), make the following correction. On page 34646, in the second column, in the last line of the table, remove “2005” and add, in its place, “2006”.

Issued in Washington, DC, on this 19th day of June 2006.
Vincent K. Snowbarger,
Acting Executive Director, Pension Benefit Guaranty Corporation.

[FR Doc. E6-9881 Filed 6-21-06; 8:45 am]

BILLING CODE 7709-01-P